DEPARTMENT OF STATE

[Public Notice 4818]

U.S. National Commission for UNESCO Notice of Commission Establishment

The Department of State Announces the Establishment of the U.S. National Commission for the United Nations Educational, Scientific, and Cultural Organization (UNESCO).

The U.S. National Commission for UNESCO, which will operate pursuant to the requirements of the Federal Advisory Committee Act (FACA), will provide recommendations to the Secretary of State and to the U.S. Mission to UNESCO in Paris. The primary focus of the recommendations will relate to the formulation and implementation of U.S. policy towards UNESCO on matters of education, science, communications, and culture. In its efforts to uphold and promote human rights, tolerance, and learning worldwide, the U.S. National Commission for UNESCO is necessary and in the public interest.

To contact the commission, please call (202) 647-6081 or e-mail DCUNESCO@state.gov.

Dated: October 6, 2004.
Marguerite H. Sullivan,
Executive Director, International Organizations/U.S. National Commission for UNESCO, Department of State.

[FR Doc. 04-24329 Filed 10-29-04; 8:45 am]

BILLING CODE 4710-19-P